DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995, and as last amended September 21, 2004; 69 FR 56433-56445).

This notice reflects organizational changes in the Health Resources and Services Administration. Specifically, this notice establishes the Bureau of Clinician Recruitment and Service (RU) and moves the National Health Service Corps, the Nursing Scholarship Program, the Nursing Education Loan Repayment Program, the Faculty Loan Repayment Program, and the Native Hawaiian Scholarship Program from the Bureau of Health Professions (RP) to this newly established Bureau.

Chapter RU, Bureau of Clinician Recruitment and Service

Section RU, 00 Mission

The mission of the Bureau of Clinician Recruitment and Service is to improve the health of the Nation's underserved communities and vulnerable populations by coordinating the recruitment and retention of caring health professionals in the healthcare system and supporting communities' efforts to build more integrated and sustainable systems of care.

Section RU, 10 Organization

The Bureau of Clinician Recruitment and Service (BCRS) is headed by the Associate Administrator who reports directly to the Administrator, Health Resources and Services Administration. The BCRS includes the following components:

(1) Office of the Associate Administrator (RU);

(2) Legal & Compliance Office (RU1);

(3) Division of Site and Clinician Recruitment (RU2);

(4) Division of Applications and Awards (RU3); and

(5) Division of Scholar and Clinician Support (RU4).

Section RU-20, Functions

Office of the Associate Administrator (RU)

Provides overall leadership, direction, coordination, and planning in support of Bureau programs: The NHSC Scholarship Program, NHSC Loan Repayment Program, the Native Hawaiian Health Scholarship Program, the Nursing Scholarship Program, the Faculty Loan Repayment Program, and the Nursing Education Loan Repayment Program: (1) Establishes program goals, objectives and priorities, and provides oversight as to their execution; (2) plans, directs, coordinates and evaluates Bureau-wide management activities; (3) maintains effective relationships within HRSA and with other HHS organizations, other Federal agencies, State and local governments, and other public and private organizations concerned with improving the health status of the Nation's underserved communities and vulnerable populations by recruiting and retaining health care clinicians into service in areas of greatest need; (4) plans, directs and coordinates Bureau-wide administrative management activities, i.e., budget, personnel, procurements, delegations of authority, and has responsibilities related to the awarding of BCRS grant funds; and (5) oversees the development of BCRS program policies.

Legal and Compliance Office (RU1)

(1) Analyzes, administers and manages procedures to perform responsibilities for the NHSC Scholarship Program, NHSC Loan Repayment Program (LRP), Native Hawaiian Health Scholarship Program, Nursing Scholarship Program, the Faculty Loan Repayment Program, and Nursing Education Loan Repayment Program for scholarship and loan repayment participants who have breached their service obligation, requested a waiver or suspension of their service obligation, or who are in default and have agreed to serve under a Forbearance Agreement, as a result of judgments, or signed Special Repayment Program Agreements; (2) reviews default recommendations; determines the action of default (breach of contract); notifies appropriate financial organization that a scholar or LRP participant has been placed in default, the reason for default, the date of default and the days of credit, if any, towards service obligation; and takes other appropriate actions; (3) provides programmatic information to Agency officials, the Office of the General Counsel, the Office of Inspector General, Division of Fiscal Services, and the Assistant United States Attorneys at the Department of Justice for trials, bankruptcy hearings, and other activities; (4) serves as a point of contact for responding to inquiries, disseminating information and providing technical assistance concerning defaults, waivers, suspensions and default payment obligations; and (5) develops and implements policies and procedures in conjunction with default reduction activities and other actions to maximize compliance with scholarship and loan repayment service obligations.

Division of Site and Clinician Recruitment (RU2)

Works with sites located in Health Professional Shortage Areas (HPSA) to support recruitment, retention and effectiveness of BCRS clinicians. Specifically: (1) Conducts student, clinician and site recruitment and outreach activities; (2) provides oversight, processing and coordination of reviews of all BCRS site applications including the Ambassadors Program, J1-Visas, Ready Responders, Native Hawaiian Health Scholarship Program and demonstration projects; (3) maintains all vacancy management activities; (4) facilitates scholar placement; (5) conducts site application review; and (6) is responsible for all communication functions including but not limited to the Web site, HRSA Call Center and newsletters; and coordinates all Bureau conferences.

Division of Applications and Awards (RU3)

The Division of Applications and Awards processes applications and makes awards for the NHSC Scholarship Program, the NHSC Loan Repayment Program, Nursing Education Loan Repayment Program, Nursing Scholarship Program, and the Faculty Loan Repayment Program. Specifically: (1) Reviews, ranks and selects participants for the scholarship and loan repayment programs; (2) serves as the point of contact for responding to inquiries, disseminating program information, and providing technical assistance pertaining to scholarship and loan repayment applications and awards; (3) awards scholarships and loan repayment contracts to individuals selected; (4) verifies and processes loan and lender related payments in prescribed manner; and (5) maintains current information on scholarship and loan repayment applications and awards through automated BCRS information systems.

Division of Scholar and Clinician Support (RU4)

The Division of Scholar and Clinician Support initiates contact with and supports scholars entering the site selection phase and provides ongoing support to all clinicians with a formal affiliation with the BCRS. Assures contact with BCRS clinicians throughout their period of obligated service. Specifically: (1) Monitors, counsels, approves deferments, recommends suspensions and if necessary recommends defaults of all program participants; (2) monitors service and sites, coordinates technical assistance, processes transfer requests, reassignments, suspensions, and default recommendations, closes individual personnel files, issues completion certificates, and completes annual retention reports.

Section RU-30, Delegations of Authority

All delegations of authority and re-delegations of authority made to HRSA officials that were in effect immediately prior to this reorganization, and that are consistent with this reorganization, shall continue in effective pending further re-delegation.

This reorganization is effective upon the date of signature.

Dated: April 11, 2007.
Elizabeth M. Duke,
Administrator.

[FR Doc. E7-7306 Filed 4-17-07; 8:45 am]

BILLING CODE 4165-15-P